DEPARTMENT OF THE TREASURY

Submission for OMB Review; Comment Request

July 22, 2011.

The Department of the Treasury will submit the following public information collection requirement to OMB for review and clearance under the Paperwork Reduction Act of 1995, Public Law 104-13 on or after the date of publication of this notice. A copy of the submission may be obtained by contacting the Treasury Departmental Office Clearance Officer listed. Comments regarding this information collections should be addressed to the OMB reviewer listed and to the Treasury PRA Clearance Officer, Department of the Treasury, 1750 Pennsylvania Avenue, NW., Suite 11010, Washington, DC 20220.

DATES: Written comments should be received on or before August 29, 2011 to be assured of consideration.

Office of Foreign Assets Control (OFAC)

OMB Number: 1505-0167.

Type of Review: Revision of a currently approved collection.

Title: Cuban Remittance Affidavit.

Form: TD F 90-22.52.

Abstract: The information is required of persons subject to the jurisdiction of the United States who make remittances to persons in Cuba pursuant to the general licenses in 515.570 of the Cuban Assets Control Regulations, 31 CFR Part 515 (CACR). The information will be used by the Office of Foreign Assets Control (OFAC) of the Department of the Treasury to monitor compliance with regulations governing unlimited family and family inherited remittances, periodic $500 remittances, unlimited remittances to religious organizations, remittances to students in Cuba pursuant to an educational license, limited emigration remittances, and periodic remittances from blocked accounts.

Respondents: Individuals or Households.

Estimated Total Annual Burden Hours: 100,000.

Departmental Office Clearance Officer: James Earl, DO/Office of Foreign Assets Control, 1500 Pennsylvania Ave., NW., Rm. 5205, Washington, DC 20220; (202) 622-1947.

OMB Reviewer: Shagufta Ahmed, Office of Management and Budget, New Executive Office Building, Room 10235, Washington, DC 20503; (202) 395-7873.

Dawn D. Wolfgang,
Treasury PRA Clearance Officer.

[FR Doc. 2011-19019 Filed 7-27-11; 8:45 am]

BILLING CODE 4810-25-P